DEPARTMENT OF DEFENSE

Office of the Secretary

Threat Reduction Advisory Committee Closed Meeting

AGENCY: Defense Threat Reduction Agency, Office of the Under Secretary of Defense (Acquisition, Technology and Logistics); Department of Defense.

ACTION: Federal Advisory Committee meeting notice; correction.

SUMMARY: The Department of Defense published an announcement of a closed session of the Threat Reduction Advisory Committee on April 23, 2008 (73 FR 21920-21921). The meeting date was incorrect. This notice is being published to provide the correct meeting date of June 26, 2008. All other information in the previous notice remains the same.

DATES: Thursday, June 26, 2008 (8 a.m. to 4 p.m.).

FOR FURTHER INFORMATION CONTACT: Contact Mr. Eric Wright, Defense Threat Reduction Agency/AST, 8725 John J. Kingman Road, MS 6201, Fort Belvoir, VA 22060-6201, Phone: (703) 767-5717, Fax: (703) 767-5701, E-mail: eric.wright@dtra.mil.

Dated: May 1, 2008.
Patricia L. Toppings,
OSD Federal Register Liaison Officer, Department of Defense.

[FR Doc. E8-10070 Filed 5-6-08; 8:45 am]

BILLING CODE 5001-06-P